GENERAL SERVICES ADMINISTRATION

[OMB Control No. 3090-0118; Docket No. 2020-0001; Sequence No. 4]

Information Collection; Federal Management Regulation; Standard Form 94, Statement of Witness

AGENCY: Office of Government-Wide Policy (OGP), General Services Administration (GSA).

ACTION: Notice; request for comments.

SUMMARY: Under the provisions of the Paperwork Reduction Act, the Regulatory Secretariat Division will be submitting to the Office of Management and Budget (OMB) a request to review and approve an existing information collection requirement regarding OMB Control No: 3090-0118; Standard Form 94, Statement of Witness.

DATES: Submit comments on or before August 3, 2020.

ADDRESSES: Submit comments identified by Information Collection 3090-0118; Standard Form 94, Statement of Witness via http://www.regulations.gov. Submit comments via the Federal eRulemaking portal by searching for “Information Collection 3090-0118; Standard Form 94, Statement of Witness”. Select the link “Submit a Comment” that corresponds with “Information Collection 3090-0118; Standard Form 94, Statement of Witness.” Follow the instructions provided at the “Submit a Comment” screen. Please include your name, company name (if any), and “Information Collection 3090-0118; Standard Form 94, Statement of Witness” on your attached document. If your comment cannot be submitted using https://www.regulations.gov, call or email the points of contact in the FOR FURTHER INFORMATION CONTACT section of this document for alternate instructions.

Instructions: Please submit comments only and cite Information Collection 3090-0118; Standard Form 94, Statement of Witness, in all correspondence related to this collection. Comments received generally will be posted without change to http://www.regulations.gov, including any personal and/or business confidential information provided. To confirm receipt of your comment(s), please check www.regulations.gov, approximately two-to-three days after submission to verify posting.

FOR FURTHER INFORMATION CONTACT: Mr. Ray Wynter, GSA, Office of Government-wide Policy (MAG), Office of Asset and Transportation Management, at telephone 202-501-3802 or via email to ray.wynter@gsa.gov.

SUPPLEMENTARY INFORMATION:

A. Purpose

GSA's Office of Government-wide Policy is announcing the availability of Standard Form 94, Statement of Witness that is publicly available on http://www.gsa.gov/forms. This updated Standard Form 94, Statement of Witness is a renewal of a currently approved information collection requirement regarding statement from witnesses. This form will be used to collect information from witnesses reporting accidents and/or damage to Federal Fleet Vehicles.

B. Annual Reporting Burden

Respondents: 290.

Responses per Respondent: 1.

Total Annual Responses: 290.

Hours per Response: 0.333.

Total Burden Hours: 97.

C. Public Comments

Public comments are particularly invited on: Whether this collection of information is necessary, whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the Regulatory Secretariat Division, at GSARegSec@gsa.gov. Please cite OMB Control No. 3090-0118, Standard Form 94, Statement of Witness, in all correspondence.

Beth Anne Killoran,
Deputy Chief Information Officer.

[FR Doc. 2020-12181 Filed 6-4-20; 8:45 am]

BILLING CODE 6820-14-P